DEPARTMENT OF AGRICULTURE

Office of the Secretary

[Docket No. APHIS-2006-0018]

Privacy Act Systems of Records; Wildlife Services Management Information System

AGENCY: Office of the Secretary, USDA.

ACTION: Notice of a proposed new system of records; request for comment.

SUMMARY: The U.S. Department of Agriculture proposes to add a system of records to its inventory of records systems subject to the Privacy Act of 1974, as amended. The system of records being proposed is the Wildlife Services Management Information System, USDA-APHIS-9. This notice is necessary to meet the requirements of the Privacy Act to publish in the Federal Register notice of the existence and character of record systems maintained by the agency.

Although the Privacy Act requires only that the portion of the system that describes the “routine uses” of the system be published for comment, we invite comment on all portions of this notice.

DATES: Effective Date: This system will be adopted without further notice on June 9, 2008 unless modified to respond to comments received from the public and published in a subsequent notice.

Comment date: Comments must be received, in writing, on or before May 30, 2008.

ADDRESSES: You may submit comments by either of the following methods:

• Federal eRulemaking Portal: Go to http://www.regulations.gov/fdmspublic/component/main?main=DocketDetail&d=APHIS-2006-0018, and follow the instructions for submitting comments.

• Postal Mail/Commercial Delivery: Docket No. APHIS-2006-0018, Regulatory Analysis and Development, PPD, APHIS, Station 3A-03.8, 4700 River Road Unit 118, Riverdale, MD 20737-1238.

Docket: You may view comments we receive at the Federal eRulemaking Portal (Web address above) or in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Mr. Robert P. Myers, Staff Officer, Wildlife Services, APHIS, 4700 River Road Unit 87, Riverdale, MD 20737; (301) 734-7921.

SUPPLEMENTARY INFORMATION: The Privacy Act of 1974, as amended (5 U.S.C. 552a), requires agencies to publish in the Federal Register notice of new or revised systems of records maintained by the agency. A system of records is a group of any records under the control of any agency, from which information is retrieved by the name of an individual or by some identifying number, symbol, or other identifying particular assigned to an individual.

The Animal and Plant Health Inspection Service (APHIS) of the U.S. Department of Agriculture (USDA) is proposing to add a new system of records, entitled Wildlife Services Management Information System, that will be used to maintain a record of activities conducted by the agency pursuant to its mission and responsibilities authorized by the Act of March 2, 1931, as amended (7 U.S.C. 426 and 426(b)), and the Act of December 22, 1987 (7 U.S.C. 426(c)).

Within this area of responsibility, Wildlife Services (WS) provides wildlife damage management services to Federal, State, and local governments, private sector entities within the United States, foreign partners, and cooperators. Individuals and cooperators may include farmers, ranchers, livestock dealers (including agents and brokers), airport employees, condominium associations, homeowners associations, golf course owners, pest control operators, contract personnel engaged in program activities, private homeowners, and other individuals. Wildlife damage management services include services to control wildlife diseases and invasive species and to protect livestock and aquaculture. Records of these activities will be maintained in the Management Information System (MIS) in Riverdale, Maryland; and in USDA's National Information Technology Center in Kansas City, Missouri, as well as in hard copy files located in headquarters, State, regional, and district offices.

The MIS contains personally identifiable information about persons who acquire wildlife damage management services from APHIS. The information includes a name, telephone number, mailing address, physical location address, and, when necessary, the Global Positioning System (GPS) coordinates. For cooperators for whom WS provides services on specific wildlife damage projects, an identifying number may be issued, which may be a Federal tax identification number, an employer identification number, or, for individual citizens who are the primary contact in a funded cooperative agreement relationship, a social security number. In these instances, WS collects social security numbers or other identifying numbers, such as tax identification numbers or employer identification numbers, in compliance with the Debt Collection Improvement Act of 1996 (Pub. L. 104-134). The MIS may also include information relating to adverse human or animal incidents, indemnity, agreements, or insurance claims.

Agency procedure requires that WS employees obtain permission to enter the property of cooperators. Information collected about cooperators will be used to document authority and license to enter premises to conduct wildlife damage management activities, pursuant to requests from cooperators for services to be conducted on their behalf. In addition, WS will use the information to help evaluate the effectiveness of program activities.

Also in support of the APHIS mission, WS conducts surveys by selecting cooperators to provide information about various facets of program activities related to the services provided. Information provided by the cooperator during the course of business enables WS to contact them and request voluntary participation in a survey, as well as use the information volunteered by the cooperator to make determinations about how and when work will be performed, what methods will be used, what information will be provided to the cooperator about the methodology, process, frequency, results, and timelines to be used in program activities, and to assist in developing safety measures and protocols.

Routine Uses of Records Maintained in the System, Including Categories of Users and the Purposes of Such Uses

APHIS may routinely share data in the MIS system with other Federal, State, and local regulatory agencies and their employees and contractors who collaborate with WS in regulating wildlife management activities or have responsibility for animal or public health, such as the Centers for Disease Control or the Environmental Protection Agency. Information may be shared with agencies with which APHIS has interagency agreements or memoranda of understanding, such as the Bureau of Land Management or U.S. Fish and Wildlife Service. Other routine uses of this information include releases related to investigations pertaining to violations of law or related to litigation. A complete listing of the routine uses for this system is included in the accompanying document that is published along with this notice.

The information collection requests associated with this system have been approved by Office of Management and Budget (OMB) under the Paperwork Reduction Act. The collection is named “Cooperative Wildlife Damage Management Programs” and the OMB Control Number is 0579-0335.

Report on New System

A report on the new system of records, required by 5 U.S.C. 552a(r), as implemented by the Office of Management and Budget Circular A-130, was sent to the Chairman, Committee on Homeland Security and Governmental Affairs, United States Senate; the Chairman, Committee on Oversight and Government Reform, U.S. House of Representatives; and the Administrator, Office of Information and Regulatory Affairs, Office of Management and Budget.

Dated: April 17, 2008.
Edward T. Schafer,
Secretary.

System name:

Wildlife Services Management Information System, USDA-APHIS-9.

Security classification:

None.

System location:

The files for the Wildlife Services Management Information System are maintained in the offices of Wildlife Services, Riverdale, Maryland; Wildlife Services Information Technology Support Center, Fort Collins, Colorado; Federal and State area offices; and Federal regional offices. The electronic component of the system is housed at the USDA's National Information Technology Center (NITC) in Kansas City, Missouri.

Categories of individuals covered by the system:

Ranchers, farmers, livestock dealers (including agents and brokers) handling livestock covered by the program, airport employees, condominium associations, homeowners associations, golf course owners, State, Federal, and Tribal Governments, pest control operators, contract personnel engaged in program activities, private homeowners, and other individuals.

Categories of records in the system:

The records consist of agreements for services; description of property; names and addresses of those entering the agreement; contact information, including names and telephone numbers; property locations and descriptions, which may include GPS coordinates; and insurance, appraisals, indemnity, and property damage information.

Purpose(s) of the system:

This system will be used to maintain a record of activities conducted by the agency pursuant to its mission and responsibilities for providing services necessary to manage wildlife damage to agriculture, human health and safety, natural resources, and human property.

Authority for maintenance of the system:

The Act of March 2, 1931, as amended (7 U.S.C. 426 and 426(b)), and the Act of December 22, 1987 (7 U.S.C. 426(c)).

Routine uses of records maintained in the system, including categories of users and the purposes of such uses:

In addition to those disclosures generally permitted under 5 U.S.C. 552a(b) of the Privacy Act, records maintained in the system may be disclosed outside USDA as follows:

(1) To cooperative Federal, State, and local government officials, employees, or contractors, and other parties engaged to assist in administering the program. Such contractors and other parties will be bound by the nondisclosure provisions of the Privacy Act. This routine use assists the agency in carrying out the program, and thus is compatible with the purpose for which the records are created and maintained;

(2) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(3) To the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(4) For use in a proceeding before a court or adjudicative body before which the agency is authorized to appear, when the agency, or any component thereof, or any employee of the agency in his or her official capacity, or any employee of the agency in his or her individual capacity where the agency has agreed to represent the employee, or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(5) To appropriate agencies, entities, and persons when the agency suspects or has confirmed that the security or confidentiality of information in the system of records has been compromised; the agency has determined that as a result of the suspected or confirmed compromise there is a risk of harm to economic or property interests, a risk of identity theft or fraud, or a risk of harm to the security or integrity of this system or other systems or programs (whether maintained by the agency or another agency or entity) that rely upon the compromised information; and the disclosure made to such agencies, entities, and persons is reasonably necessary to assist in connection with the agency's efforts to respond to the suspected or confirmed compromise and prevent, minimize, or remedy such harm;

(6) To USDA contractors, partner agency employees or contractors, or private industry employed to identify patterns, trends, or anomalies indicative of fraud, waste, or abuse; and

(7) To the National Archives and Records Administration or to the General Services Administration for records management inspections conducted under 44 U.S.C. 2904 and 2906.

Disclosure to consumer reporting agencies:

None.

Policies and practices for storing, retrieving, accessing, retaining, and disposing of records in the system:

Policies for storing, retrieving, accessing, retaining, and disposing of records in the system are outlined in the Wildlife Services Information and Data Management Handbook and the APHIS Records Management Handbook and are summarized below.

Storage:

The MIS records will be maintained in on-line disk storage and the MIS database. The NITC will provide continuous storage management of the electronic records. Documents that are executed originals will be maintained in State or regional Wildlife Services offices.

Retrievability:

Under this system, data may be retrieved and organized by agreement number, name of cooperator, or agreement holder. Retrieval permissions for employees who have access to the system are determined by the data usage role of the employee and are compliant with the APHIS “least privilege” rule.

Safeguards:

Control measures designed to prevent misuse of accessible data include unique user identification, a password protection protocol, and limitation of user roles through compartmentalization of allowed access. Agency implemented cybersecurity measures and firewalls are built into the application user interface, and monitoring of use of the MIS for profiles of misuse is possible. The hard copy components of the system, and computer files, tapes, and disks are kept in a safeguarded environment with access only by authorized personnel.

Retention and disposal:

Information identifying cooperators is kept in the system as long as a cooperator retains an active agreement with WS. Federal and State employee information is kept active in the system as long as the individual works for WS. Upon termination of employment or lapse of an active agreement, information is archived by fiscal year for 15 years. Data elimination procedures are in accordance with National Archives and Records Administration and existing APHIS policy.

System manager(s) and address:

Director, Information Technology Support Center, Wildlife Services, USDA/APHIS, NRRC, 2150 Centre Avenue, Building A, Suite 143, Fort Collins, CO 80526.

Notification procedure:

Any individual may request general information regarding this system of records or information as to whether the system contains records pertaining to him/her from the system manager at the address above. All inquiries pertaining to this system should be in writing, must name the system of records as set forth in the system notice, and must contain the individual's name, telephone number, address, and e-mail address.

Record access procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting record procedures:

Any individual may contest information contained within a record in the system that pertains to him/her by submitting a written request to the system manager at the address above. Include the reason for contesting the record and the proposed amendment to the information with supporting documentation to show how the record is inaccurate.

Record source categories:

WS users generate data about the work performed by WS. Other data is collected by voluntary submission by cooperators.

Exemptions claimed for the system:

None.

[FR Doc. E8-9406 Filed 4-29-08; 8:45 am]

BILLING CODE 3410-34-P